DEPARTMENT OF ENERGY

Federal Energy Regulatory Commission

Notice of Surrender of Exemption and Soliciting Comments, Motions To Intervene, and Protests

August 7, 2001.

Take notice that the following hydroelectric application has been filed with the Commission and is available for public inspection:

a. Application Type: Surrender of Exemption.

b. Project No: 6132-006.

c. Date Filed: July 11, 2001.

d. Applicant: Facilitators Improving Salmonid Habitat (FISH).

e. Name of Project: John C. Jones.

f. Location: On the North Branch of Marsh Stream (a Penobscot River tributary) in the towns of Winterport and Frankfort, Maine.

g. Filed pursuant to: 18 CFR 4.200.

h. Applicant Contact: Clinton B. Townsend, P.O. Box 467, Skowhegan, Maine 04976, (207) 474-9411.

i. FERC Contact: Questions about this notice can be answered by Jack Hannula at (202) 219-0116. The Commission cannot accept comments, recommendations, motions to intervene or protests sent by e-mail; these documents must be filed as described below:

j. Deadline for filing comments and/or motions: 30 days from the issuance of this notice.

All documents (original and eight copies) should be filed with: David P. Boergers, Secretary, Federal Energy Regulatory Commission, 888 First Street, NE., Washington, DC 20426.

The Commission's Rules of Practice and Procedure require all interveners filing documents with the Commissions to serve a copy of that document on each person whose name appears on the official service list for the project. Further, if an intervener files comments or documents with the Commission relating to the merits of an issue that may affect the responsibilities of a particular resource agency, they must also serve a copy of the document on the resource agency. Please include the project number (P-6132-006) on any comments or motions filed.

Comments, terms and conditions, motions to intervene, and protests may be filed electronically via the Internet in lieu of paper. See 18 CFR 385.2001(a)(1)(iii) and the instructions on the Commission's web site (http://www.ferc.gov) under the “e-Filing” link.

k. Description of Surrender: The project is no longer profitable to operate. Applicant proposes to remove the entire structure, including the dam, powerhouse, fishway and cinder block building across the entire breath of the river, as well as the asphalt from the parking lot but not the slab.

l. Locations of the Application: A copy of the application is available for inspection and reproduction at the Commission's Public Reference Room, located at 888 First Street, NE, Room 2A, Washington DC, or by calling (202) 208-1371. This filing may also be viewed on http://www.ferc.gov using the “RIMS” link-select “Docket #” and follow the instructions (call (202) 208-2222 for assistance).

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified date for the particular application.

Any filings must bear in all capital letters the title “COMMENTS”, “RECOMMENDATION FOR TERMS AND CONDITIONS”, “PROTESTS”, or “MOTION TO INTERVENE”, as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

David P. Boergers,
Secretary.

[FR Doc. 01-20245 Filed 8-10-01; 8:45 am]

BILLING CODE 6717-01-P